DEPARTMENT OF HEALTH AND HUMAN SERVICES

National Institutes of Health

National Advisory Child Health and Human Development Council Task Force on Research Specific to Pregnant Women and Lactating Women (PRGLAC) Implementation Working Group Meeting

AGENCY: National Institutes of Health, HHS.

ACTION: Notice.

SUMMARY: The Eunice Kennedy Shriver National Institute of Child Health and Human Development (NICHD) PRGLAC Implementation Working Group of Council is charged with monitoring and reporting on implementation of the recommendations from the PRGLAC. This includes monitoring and reporting on implementation, updating regulations, and guidance, as applicable, regarding the inclusion of pregnant women and lactating women in clinical trials.

DATES: The in-person meeting will be held on March 22, 2024, from 8:30 a.m. to 4:30 p.m. EST.

ADDRESSES: The in-person meeting will be held on the NIH Campus, 1 Center Dr., Building 31/6C, Room A, Bethesda, MD 20892.

FOR FURTHER INFORMATION CONTACT: For information concerning this meeting, Dr. Emma Carpenter, Health Science Policy Analyst, Legislation and Public Policy Branch, Office of Legislation, Public Policy, and Ethics, NICHD, NIH, 6710B Rockledge Drive, Bethesda, MD 20892-7510, emma.carpenter@nih.gov, 301-594-2572.

SUPPLEMENTARY INFORMATION: This notice is pursuant to 42 U.S.C. 285g. The National Advisory Child Health and Human Development Council Task Force on Research Specific to Pregnant Women and Lactating Women (PRGLAC) Implementation Working Group meeting will be open to the public as a virtual meeting. Individuals who need special assistance, such as sign language interpretation or other reasonable accommodations, should notify the Contact Person listed in advance of the meeting.

Any interested person may file written comments with the committee by forwarding the statement to the Contact Person listed on this notice. The statement should include the name, address, telephone number and when applicable, the business or professional affiliation of the interested person. Information is also available on the Institute's/Center's home page: https://www.nichd.nih.gov/about/advisory, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS).

Alison N. Cernich,
Deputy Director, Eunice Kennedy Shriver National Institute of Child Health and Human Development, National Institutes of Health.

[FR Doc. 2024-02904 Filed 2-12-24; 8:45 am]

BILLING CODE 4140-01-P